DEPARTMENT OF COMMERCE

National Oceanic and Atmospheric Administration

50 CFR Part 660

[Docket No. 240514-0137; RTID 0648-XE258]

Fisheries Off West Coast States; Modification of the West Coast Salmon Fisheries; Inseason Actions #4-16

AGENCY: National Marine Fisheries Service (NMFS), National Oceanic and Atmospheric Administration (NOAA), Commerce.

ACTION: Inseason modification of 2024 management measures.

SUMMARY: NMFS announces 13 inseason actions for the 2024-2025 ocean salmon fishing season. These inseason actions modify the recreational and commercial salmon troll fisheries in the area from the U.S./Canada border to Humbug Mountain, OR.

DATES: The effective dates for these inseason actions are set out in this document under the heading “Inseason Actions” and the actions remain in effect until superseded or modified.

FOR FURTHER INFORMATION CONTACT: Anna Heeter, (971) 361-8895, Anna.Heeter@noaa.gov.

SUPPLEMENTARY INFORMATION:

Background

The annual management measures for the 2024 and early 2025 ocean salmon fisheries (89 FR 44553, May 21, 2024) govern the commercial and recreational fisheries in the area from the U.S./Canada border to the U.S./Mexico border, effective from 0001 hours Pacific Daylight Time (PDT), May 16, 2024, until the effective date of the 2025 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial salmon troll fisheries, NOF recreational fisheries, and SOF recreational fisheries, as set out under the heading “Inseason Actions” below.

Consultation with the Council Chairperson on these inseason actions occurred on June 27, 2024, July 10, 2024, July 31, 2024, August 8, 2024, August 15, 2024, August 19, 2024, August 21, 2024, August 28, 2024, August 29, 2024, and September 11, 2024. These consultations included representatives from NMFS, Washington Department of Fish and Wildlife, Oregon Department of Fish and Wildlife, and California Department of Fish and Wildlife. Representatives from the Salmon Advisory Subpanel and Salmon Technical Team were also present. A Council representative was present on June 27, 2024, July 10, 2024, July 31, 2024, August 8, 2024, August 15, 2024, August 19, 2024, August 21, 2024, August 28, 2024, August 29, 2024, and September 11, 2024.

These inseason actions were announced on NMFS' telephone hotline and U.S. Coast Guard radio broadcast on the date of the consultations (50 CFR 660.411(a)(2)).

Inseason Actions

Inseason Action #4

Description of the action: Inseason action #4 modifies the NOF ocean salmon troll commercial fishery from the U.S./Canada border to Cape Falcon, OR.

Effective dates: Inseason action #4 takes effect for the following areas and dates, and remains in effect until superseded.

• Effective 12:01 a.m., Monday, July 1, 2024, for the commercial salmon troll fishery, the landing and possession limit for the entire area between the U.S./Canada border and Cape Falcon, OR will be modified from 70 Chinook salmon and 100 coho salmon per vessel to 40 Chinook salmon and 100 coho salmon per vessel for the open period July 1-10.

• Effective 12:01 a.m., Thursday, July 11, 2024, for the commercial salmon troll fishery, the landing and possession limit for the entire area between the U.S./Canada border and Cape Falcon, OR will be modified from 120 Chinook salmon and 100 coho salmon per vessel per landing week to 40 Chinook salmon and 100 coho salmon per vessel per landing week.

Reason and authorization for the action: Inseason action #4 is necessary to preserve the season length and allow access to the Chinook salmon and coho salmon quota. The reductions in Chinook landing limits are intended to slow catch to maximize season length and ensure that the conservation objectives outlined in the Fishery Management Plan (FMP) and Endangered Species Act (ESA) are met. After reviewing current and historical catch and effort data as well as weather forecasts, it was determined that reducing the landing and possession limit for the allocated period of time will allow for greater fishing opportunity throughout the month of July while remaining within the quota.

The NMFS West Coast Regional Administrator (RA) considered the 2024 abundance forecasts for Chinook salmon stocks, the timing of the actions relative to the length of the season and the remaining Chinook commercial troll quota, and determined that this inseason action is necessary to meet management and conservations goals for the 2024-2025 management measures. This inseason action modified quotas and/or fishing seasons as authorized under 50 CFR 660.409(b)(1)(i).

Inseason Action #5

Description of the action: Inseason action #5 modifies the Chinook salmon quota for the July-September NOF commercial salmon troll fishery to 13,800 Chinook salmon from 16,400 Chinook salmon.

Effective dates: Inseason action #5 takes effect on July 11, 2024, at 12:01 a.m. and remains in effect until superseded.

Reason and authorization for the action: Inseason action #5 is necessary to offset the overage from the May-June Chinook salmon quota and ensure conservation objectives would not be exceeded. The July-September quota was reduced from 16,400 to 13,800. This change kept the fishery as a whole impact-neutral to the Oregon Coast Coho stock which was the most constraining stock for the fishery and was within the overall quota set preseason.

The RA considered the landings of Chinook salmon in the NOF commercial salmon fishery, fishery effort occurring to date, quotas set preseason, and the Salmon Technical Team's (STT's) calculations for the impact-neutral quota adjustment. The RA determined that this inseason action is necessary to meet management and conservations goals for the 2024-2025 management measures. This inseason action modified quotas and/or fishing seasons as authorized under 50 CFR 660.409(b)(1)(i).

Inseason Action #6

Description of the action: Inseason action #6 modifies the recreational fishery in the area between the U.S./Canada border and the Queets River (Neah Bay and La Push subareas). The daily bag limit in both subareas is modified from two salmon per day of which only one may be a Chinook to two salmon per day for all salmon, except no chum salmon beginning August 1. All coho salmon must be marked with a healed adipose fin clip. Chinook salmon minimum size is 24 inches (61 centimeters (cm)), and coho salmon minimum size is 16 inches (40.7 cm).

Effective dates: Inseason action #6 takes effect on July 13, 2024, at 12:01 a.m. and remains in effect until September 15, 2024.

Reason and authorization for the action: Inseason action #6 is necessary to provide greater fishing opportunity for the public to access the available Chinook salmon quota. Catch rates and effort declined since July 4, 2024, which allowed for an increase in the Chinook landing limit. Based on catch and effort data from previous weeks and historical catch, effort, and weather reports to refine projected effort, increasing the bag limit in the Neah Bay and La Push subareas would allow for greater access to the Chinook salmon quota while also ensuring the quota is not exceeded.

The RA considered the 2024 abundance forecasts for Chinook salmon stocks, the remaining quota, the timing of the action relative to the length of the season, the catch and effort to date, and determined that this inseason action is necessary to meet management and conservations goals for the 2024-2025 management measures including season length. This inseason action modifies bag limits as authorized under 50 CFR 660.409(b)(1)(iii).

Inseason Action #7

Description of the action: Inseason action #7 modifies the commercial salmon fishery in the area between the U.S./Canada border and Cape Falcon. The landing and possession limit is modified from 25 Chinook salmon and 100 marked coho salmon per vessel per landing week to 20 Chinook salmon and 100 marked coho salmon per vessel per landing week (Thursday-Wednesday).

Effective dates: Inseason action #7 takes effect on August 1, 2024, at 12:01 a.m. and remains in effect until superseded.

Reason and authorization for the action: Inseason action #7 is necessary because higher catches and higher effort than anticipated at this point in the season have been reported. This modification will slow the catch to preserve season length, thereby ensuring the fishery retains as much economic activity possible while also meeting conservation objectives.

The RA considered the 2024 abundance forecasts for Chinook salmon stocks, the timing of the actions relative to the length of the season, the remaining quota, as well as catch and effort to date, and determined that this inseason action is necessary to meet management and conservations goals for the 2024-2025 management measures. This inseason action modifies quotas and/or fishing seasons as authorized under 50 CFR 660.409(b)(1)(i).

Inseason Action #8

Description of the action: Inseason action #8 modifies the NOF recreational salmon fishery. The area between Cape Falcon and Leadbetter Point (Columbia River subarea) is closed. Possession of coho salmon is illegal when retention is prohibited in the area.

Effective dates: Inseason action #8 takes effect on August 12, 2024, at 12:01 a.m. and remains in effect until superseded.

Reason and authorization for the action: Inseason action #8 was necessary to avoid exceeding the NOF recreational quota for coho salmon. Extensive analysis indicated that it was not possible to reallocate excess salmon quota from other recreational or commercial fisheries while also ensuring the fishery remains impact-neutral. The fishery was closed in order to the ensure the quota was not exceeded and conservation objectives were met.

The RA considered the 2024 abundance forecasts for Chinook salmon stocks, the remaining quota, and the timing of the actions relative to the length of the season, and determined that this inseason action is necessary to meet management and conservations goals for the 2024-2025 management measures. This inseason action modifies quotas and/or fishing seasons as authorized under 50 CFR 660.409(b)(1)(i).

Inseason Action #9

Description of the action: Inseason action #9 modifies the commercial fishery in the area between the U.S./Canada border and Cape Falcon.

Effective dates: Inseason action #9 takes effect for the following areas and dates, and remains in effect until superseded.

• Effective Thursday, August 15, 2024, at 6 p.m., the landing and possession limit for the North of Falcon commercial ocean salmon troll fishery is modified to 25 Chinook salmon and 100 marked coho salmon per vessel per landing week from 20 Chinook salmon and 100 marked coho salmon per vessel per landing week (Thursday-Wednesday).

• Effective Monday, August 19, 2024, at 12:01 a.m., the recreational salmon fishery in the area between Cape Falcon and Leadbetter Point (Columbia River subarea) is open to fishing for salmon. The daily limit will be two salmon, no more than one of which may be a Chinook salmon with a minimum size limit of 22 inches (55.8 cm). All coho must be marked with a healed adipose fin clip. The Columbia River Control Zone will remain closed.

Reason and authorization for the action: Inseason action #9 is necessary to sustain the length of the season and maximize access to the NOF commercial and recreational quota. In response to overall diminished effort and a larger portion of the quota remaining than anticipated in the NOF commercial troll fishery, the Chinook salmon landing and possession limit will be raised from 20 to 25 Chinook salmon per vessel per landing week. This will allow for greater access to the Chinook salmon quota. Also, there have been less coho salmon caught than projected in the recreational fishery in the Columbia River subarea, so opening the fishery allows access to the remaining recreational coho salmon quota.

The RA considered the 2024 abundance forecasts for Chinook salmon stocks, the timing of the actions relative to the length of the season, as well as catch and effort to date, and determined that this inseason action is necessary to meet management and conservations goals for the 2024-2025 management measures. This inseason action modifies quotas and/or fishing seasons as authorized under 50 CFR 660.409(b)(1)(i).

Inseason Action #10

Description of the action: Inseason action #10 modifies the recreational fishery in the area North of Cape Falcon. The area between Cape Falcon and Leadbetter Point (Columbia River subarea) is closed. Possession of salmon on board a vessel will be prohibited in the Columbia River subarea.

Effective dates: Inseason action #10 takes effect on August 23, 2024, at 12:01 a.m. and remains in effect until superseded.

Reason and authorization for the action: Inseason action #10 is necessary in order to ensure that the NOF recreational coho salmon quota for the Columbia River subarea will not be exceeded. Using data from previous weeks as well as historic data on catch and effort rates in the Columbia River subarea, it was projected that fishing beyond August 23, 2024, would exceed the available coho salmon quota for this subarea.

The RA considered landings of Chinook and coho salmon stocks to date and projected catches in the recreational salmon fishery, fishery effort occurring to date and projected effort, quotas and guidelines set preseason, and the recreational coho salmon quota remaining. The RA determined that this inseason action is necessary to meet management and conservations goals for the 2024-2025 management measures. This inseason action modifies quotas and/or fishing seasons as authorized under 50 CFR 660.409(b)(1)(i).

Inseason Action #11

Description of the action: Inseason action #11 modifies the NOF recreational salmon fishery. The area between Cape Alava and the Queets River (La Push subarea) is closed. Possession of salmon on board a vessel will be prohibited in the La Push subarea.

Effective dates: Inseason action #11 takes effect on August 21, 2024, at 12:01 a.m. and remains in effect until superseded.

Reason and authorization for the action: Inseason action #11 is necessary to avoid exceeding the La Push subarea recreational quota for coho salmon. By reviewing catch and effort level data, and predicted weather conditions to assess anticipated effort, keeping the fishery open would result in an exceedance of the La Push subarea coho salmon quota.

The RA considered landings of Chinook and coho salmon stocks to date and projected catches in the recreational salmon fishery, fishery effort occurring to date and projected effort, quotas and guidelines set preseason, and the recreational coho salmon quota remaining. The RA determined that this inseason action is necessary to meet management and conservations goals for the 2024-2025 management measures. This inseason action modifies quotas and/or fishing seasons as authorized under 50 CFR 660.409(b)(1)(i).

Inseason Action #12

Description of the action: Inseason action #12 modifies the NOF recreational salmon fishery. The area between the Queets River and Leadbetter Point (Westport subarea) is closed. Possession of salmon on board a vessel will be prohibited in the Westport subarea.

Effective dates: Inseason action #12 takes effect on August 25, 2024, at 12:01 a.m. and remains in effect until superseded.

Reason and authorization for the action: Inseason action #12 is necessary to avoid exceeding the area of NOF quota for coho salmon. By reviewing catch and effort level data, and predicted weather conditions to assess anticipated effort, it is projected that keeping the fishery open would result in an exceedance of the Westport subarea quota.

The RA considered landings of Chinook and coho salmon stocks to date and projected catches in the recreational salmon fishery, fishery effort occurring to date and projected effort quotas and guidelines set preseason, and the recreational coho salmon quota remaining. The RA determined that this inseason action is necessary to meet management and conservations goals for the 2024-2025 management measures. This inseason action modifies quotas and/or fishing seasons as authorized under 50 CFR 660.409(b)(1)(i).

Inseason Action #13

Description of the action: Inseason action #13 modifies the SOF recreational fishery from Cape Falcon to Humbug Mountain. This action increases the non-mark selective coho quota in the recreational fishery from Cape Falcon to Humbug Mountain from 25,000 to 30,700 through an impact-neutral rollover of 5,700 unused coho salmon from the Cape Falcon to the OR/CA border.

Effective dates: Inseason action #13 takes effect on September 1, 2024, at 12:01 a.m. and remains in effect until superseded.

Reason and authorization for the action: Authority for this impact-neutral rollover of unutilized quota is specified in the 2024 ocean salmon regulations (89 FR 44553, May 21, 2024).

The STT calculated that an impact-neutral rollover of the unutilized coho salmon quota would add 5,700 coho salmon from the June-August mark-selective period to the September non-selective coho salmon fishery quota of 25,000 to an adjusted quota of 30,700 coho salmon.

The RA determined that this inseason action is necessary to meet management and conservation goals for the 2024-early 2025 management measures after considering the best available information on the 2024 abundance forecasts for coho salmon stocks, remaining quota, effects on coho conservation objectives and the other factors and considerations set forth in 50 CFR 660.409. This inseason action modified quotas and/or fishing seasons as authorized under 50 CFR 660.409(b)(1)(i).

Inseason Action #14

Description of the action: Inseason action #14 modifies the NOF recreational fishery from the U.S./Canada Border and Cape Alava (Neah Bay subarea). The area between the U.S./Canada Border and Cape Alava (Neah Bay subarea) is closed to fishing for salmon.

Effective dates: Inseason action #14 takes effect on September 3, 2024, at 12:01 a.m. and remains in effect until superseded.

Reason and authorization for the action: Inseason action #14 is necessary to avoid exceeding the Neah Bay subarea recreational quota for coho salmon. According to catch data, 96 percent of the coho quota had been used as of August 29, 2024. It is necessary to close the fishery in order to prevent an exceedance of the Neah Bay subarea quota.

The RA considered catch of Chinook and coho salmon stocks to date and projected catches in the recreational salmon fishery, fishery effort occurring to date and projected effort, quotas and guidelines set preseason, and the recreational coho salmon quota remaining. The RA determined that this inseason action is necessary to meet management and conservations goals for the 2024-2025 management measures. This inseason action modifies quotas and/or fishing seasons as authorized under 50 CFR 660.409(b)(1)(i).

Inseason Action #15

Description of the action: Inseason action #15 modifies the NOF recreational fishery between Queets River and Cape Falcon (Westport and Columbia River subareas). The Westport and Columbia River subareas are open to fishing for salmon. The daily limit is two salmon, no more than one of which may be a Chinook. All coho must be marked with a healed adipose fin clip.

Effective dates: Inseason action #15 takes effect on September 4, 2024, at 12:01 a.m. and remains in effect until September 4, 2024, at 11:59 p.m.

Reason and authorization for the action: Inseason action #15 is necessary to allow for access to the remaining Chinook and coho salmon quota, which has not been fully used, while not exceeding the designated quota for the Westport and Columbia River subareas.

The RA considered catch of Chinook and coho salmon stocks to date and projected catches in the recreational salmon fishery, fishery effort occurring to date and projected effort, quotas and guidelines set preseason, and the recreational coho salmon quota remaining. The RA determined that this inseason action is necessary to meet management and conservations goals for the 2024-2025 management measures. This inseason action modifies quotas and/or fishing seasons as authorized under 50 CFR 660.409(b)(1)(i).

Inseason Action #16

Description of the action: Inseason action #16 modifies the SOF recreational salmon fishery. The area between Cape Falcon and Humbug Mountain is closed to retention of coho salmon. This area remains open for Chinook salmon retention with a daily bag limit of two salmon (24 inches (60.96 cm) minimum length).

Effective dates: Inseason action #16 takes effect on September 15, 2024, at 11:59 p.m. and remains in effect until superseded.

Reason and authorization for the action: Inseason action #16 is necessary to avoid exceeding the area of SOF quota for coho salmon. As of September 8, 2024, the estimated coho salmon catch was 17,789 fish out of an adjusted non-mark-selective coho salmon quota of 30,700 fish, or 58 percent of the quota. By reviewing catch and effort level data, and predicted weather conditions to assess anticipated effort, it is projected that keeping the fishery open would result in an exceedance of the SOF recreational quota.

The RA considered the catch of Chinook and coho salmon stocks to date and projected catches in the recreational salmon fishery, fishery effort occurring to date and projected effort, quotas and guidelines set preseason, and the recreational coho salmon quota remaining and determined that this inseason action was necessary to meet management and conservations goals for the 2024-2025 management measures. This inseason action modifies recreational bag limits as authorized under 50 CFR 660.409(b)(1)(iii).

All other restrictions and regulations remain in effect as announced for the 2024 ocean salmon fisheries (89 FR 44553, May 21, 2024; 89 FR 61355, July 31, 2024).

The States and Tribes manage the fisheries in State waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook salmon and coho salmon abundance, catch, and effort information were developed and fisheries impacts were calculated, and the time the fishery modifications had to be implemented in order to ensure that fisheries are managed based on the best scientific information available and consistent with the conservation objectives. As previously noted, actual notice of the regulatory action was provided to fishers through telephone hotlines and radio notifications. These actions comply with the requirements of the annual management measures for ocean salmon fisheries (88 FR 30235, May 11, 2023), the Pacific Salmon FMP, and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: December 18, 2024.
Kelly Denit,
Director, Office of Sustainable Fisheries, National Marine Fisheries Service.

[FR Doc. 2024-30580 Filed 12-23-24; 8:45 am]

BILLING CODE 3510-22-P